DEPARTMENT OF ENERGY

Federal Energy Regulatory Commission

[Docket No. RD25-7-000]

Commission Information Collection Activities (Ferc-725s); Comment Request; Revision

AGENCY: Federal Energy Regulatory Commission.

ACTION: Notice of information collection and request for comments.

SUMMARY: In compliance with the requirements of the Paperwork Reduction Act of 1995, the Federal Energy Regulatory Commission (Commission or FERC) is soliciting public comment on proposed revisions of the currently approved information collection, FERC-725S, Mandatory Reliability Standards for the Bulk-Power System; EOP Reliability Standards. The 60-day notice published on September 23, 2025; no comments were received.

DATES: Comments on the collection of information are due February 25, 2026.

ADDRESSES: Send written comments on FERC-725S to OMB through https://www.reginfo.gov/public/do/PRA/icrPublicCommentRequest?ref_nbr=202508-1902-004. You can also visit https://www.reginfo.gov/public/do/PRAMain and use the drop-down under “Currently under Review” to select the “Federal Energy Regulatory Commission” where you can see the open opportunities to provide comments. Comments should be sent within 30 days of publication of this notice.

Please submit a copy of your comments to the Commission via email to DataClearance@FERC.gov. You must specify the Docket No. (RD25-7-000) and the FERC Information Collection number (FERC-725S) in your email. If you are unable to file electronically, comments may be filed by USPS mail or by hand (including courier) delivery:

• Mail via U.S. Postal Service Only: Federal Energy Regulatory Commission, Secretary of the Commission, 888 First Street NE, Washington, DC 20426.

• All other delivery methods: Federal Energy Regulatory Commission, Secretary of the Commission, 12225 Wilkins Avenue, Rockville, MD 20852.

Docket: To view comments and issuances in this docket, please visit https://elibrary.ferc.gov/eLibrary/search. Once there, you can also sign-up for automatic notification of activity in this docket.

FOR FURTHER INFORMATION CONTACT: Kayla Williams, (202) 502-6468. DataClearance@FERC.gov.

SUPPLEMENTARY INFORMATION:

Title: FERC-725S, Mandatory Reliability Standards for the Bulk-Power System; EOP Reliability Standards.

OMB Control No.: 1902-0270 (FERC-725S).

Type of Request: Revisions to Existing Collections of Information in FERC-725S (EOP-012-3).

Abstract: The Commission-certified Electric Reliability Organization (ERO) submitted a petition seeking approval of proposed Reliability Standard EOP-012-3 (Extreme Cold Weather Preparedness and Operations). On September 18, 2025, the Commission approved proposed Reliability Standard EOP-012-3, its associated violation risk factors and violation severity levels, the revised defined term Generator Cold Weather Constraint declaration, and the proposed retirement of Reliability Standard EOP-012-2 immediately prior to the effective date of proposed Reliability Standard EOP-012-3.¹

¹ 16 U.S.C. 824o(d)(2).

As the Commission has previously stated, “[i]t is essential to the reliable operation of the Bulk-Power System to 'ensure enough generating units will be available during the next cold weather event.” ² When extreme cold weather events such as Winter Storms Uri or Elliott occur, the Bulk-Power System cannot operate reliably without adequate generation availability. Proposed Reliability Standard EOP-012-3 improves upon the mandatory and effective Standard EOP-012-2 by enhancing the requirements for generator cold weather preparedness and Generator Cold Weather Constraint declarations and by making other improvements consistent with the Commission's directives in its June 2024 Order to help ensure that adequate generation is available during extreme cold weather.³ Accordingly, the Commission determined that proposed Reliability Standard EOP-012-3 was just, reasonable, not unduly discriminatory or preferential, and in the public interest.

² N. Am. Elec. Reliability Corp., 187 FERC ¶ 61,204, at P 2 (2024) (June 2024 Order) (citing FERC, NERC, and Regional Entity Staff, The February 2021 Cold Weather Outages in Texas and the South Central United States 189 (Nov. 16, 2021), https://www.ferc.gov/media/february-2021-cold-weather-outages-texas-and-south-central-united-states-ferc-nerc-and (November 2021 Report)).

³ See, e.g., N. Am. Elec. Reliability Corp., 182 FERC ¶ 61,094, at PP 3-11 (February 2023 Order), reh'g denied, 183 FERC ¶ 62,034, order on reh'g, 183 FERC ¶ 61,222 (2023).

The Commission also modified Reliability Standard EOP-012-3's implementation effective date so that the proposed Reliability Standard goes into effect on October 1, 2025. Other than the implementation effective date of the proposed Reliability Standard, the Commission approved the remainder of NERC's proposed implementation plan.

The Commission also found it necessary that NERC confirm that Reliability Standard EOP-012-3 adequately addresses reliability concerns related to the generator owner constraint declarations, generator owner constraint declaration timetable notifications, and the Extreme Cold Weather Temperature definition.

The Commission previously directed NERC to collect data associated with an earlier version of this Reliability Standard.⁴ However, additional data is needed to determine whether the proposed Reliability Standard addresses the reliability concerns noted above. As such, the Commission directed NERC, pursuant to section 39.2(d) of the Commission's regulations,⁵ to submit comprehensive biennial informational filings for a limited period of time as explained in more detail below.

⁴ See id. P 11.

⁵ 18 CFR 39.2(d) (2025) (“The [ERO] . . . shall provide the Commission such information as is necessary to implement section 215 of the [FPA].”).

Information collection FERC-725S (OMB Control No. 1902-0270) currently covers the EOP Reliability Standards.⁶ In Docket No. RD25-7-000, the Commission replaced the current OMB approved Reliability Standard EOP-012-2 with proposed Standard EOP-012-3 (Table 1). Proposed Requirements R1 through R8 were carried over and modified from the prior version of the Standard, and Requirement R9 and Attachment 1 are new. The proposed Reliability Standard creates a mechanism for NERC to receive, review, evaluate, and confirm validity of each Generator Cold Weather Constraint as well as corrective action extension requests from generator owners beyond the maximum timeframe. In addition, the proposed Standard implements more frequent reviews of the Generator Cold Weather Constraint declarations to verify they remain valid. The proposed Standard also adds Attachment 1 and modifies the Generator Cold Weather Constraint definition to address concerns related to ambiguity of the defined terms.

⁶ The FERC-725S collection includes the EOP family of Reliability Standards: EOP-004-4, EOP 005-3, EOP-006-3, EOP-008-2, EOP-010-1, EOP-011-4, and EOP-012-3.

The number of respondents below are based on an estimate of the NERC compliance registry for generator owners and generator operators. Proposed Reliability Standard EOP-012-3 applies to generator owners and generator operators. The Commission based its paperwork burden estimates on the NERC compliance registry as of July 11, 2025. According to the registry for U.S. unique entities, there are 1,314 generator owners. The revisions to proposed Reliability Standard EOP-012-3 should not present any additional burden to the generator operators compared to the previously approved EOP-012-2 but will present additional burden to generator owners. Thus, the estimates in the tables below are based on the change in generator owner burden borne from the Reliability Standard approved in this order.⁷ The Commission based the burden estimates in the tables below on staff experience, knowledge, and expertise.

⁷ The overall burden associated with Reliability Standard EOP-012 will be the sum of the burden (responses) from Reliability Standard EOP-012-1 (under Docket No. RD23-1-000), Reliability Standard EOP-012-2 (under Docket No. RD24-5-000), and proposed Reliability Standard EOP-012-3 (under Docket No. RD25-7-000).

Public Reporting Burden: The estimated costs and burden for the revisions in Docket No. RD25-7-000 are shown in the table below.

⁸ The estimated hourly cost (salary plus benefits) is a combination of the following categories from the Bureau of Labor Statistics (BLS) website, http://www.bls.gov/oes/current/naics2_22.htm: 75% of the average of an Electrical Engineer (17-2071) $71.19/hr., × .75 = 53.3925 ($53.39-rounded) ($53.39/hour); and 25% of an Information and Record Clerk (43-4199) $40.51/hr., $40.51 × .25 = 10.1275 ($10.13 rounded) ($10.13/hour), for a total ($53.39+$10.13 = $63.52/hour).

Table 1—Changes Due to Final Rule in Docket No. RD25-7-000 for EOP-012-3
Reliability standard & requirement | Type and number of entity | Number of annual responses per entity | Total number of responses | Average number of burden hours per response ⁸ | Total burden hours
| (1) | (2) | (1) * (2) = (3) | (4) | (3) * (4) = (5)
FERC-725S
Annual Collection EOP-012-3
EOP-012-3 | 1,314(GO) | 1 | 1,314 | 4 hrs., $63.52/hr | 5,256 hrs., $333,861.12.
Total for EOP-012-3 |  |  | 1,314 | 4 hrs., $63.52/hr | 5,256 hrs., $333,861.12.

FERC-725S modification | Current inventory (hours) | Current inventory (responses) | Total change due to RD25-7-000
Changes to FERC 725S by RD25-7-000
Addition of EOP-012-3 |  |  | +5,256 hrs., +1,314 responses.

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: January 20, 2026.
Debbie-Anne A. Reese,
Secretary.

[FR Doc. 2026-01345 Filed 1-23-26; 8:45 am]

BILLING CODE 6717-01-P